DEPARTMENT OF ENERGY

Federal Energy Regulatory Commission

Docket No. RP03-391-001; Notice of Tariff Filing

Questar Southern Trails Pipeline Company

May 30, 2003.

Take notice that on May 23, 2003, Questar Southern Trails Pipeline Company (Southern Trails) tendered for filing as part of its FERC Gas Tariff, Original Volume No.1, Substitute Original Sheet No. 64B, to be effective July 1, 2003.

Southern Trails states that this filing proposes to amend Southern Trail's May 1, 2003 tariff filing that was filed in compliance with the Commission's Order No. 587-R in Docket No. RM96-1-024, dated March 12, 2003, which incorporated the most recent Version 1.6 standards promulgated by the North American Energy Standards Board (NAESB). Southern Trails states that it was discovered that a portion of NAESB Standard 5.3.45, that was intended to be included verbatim, was inadvertently omitted from the May 1 filing. Therefore, Southern Trails seeks to incorporate the omitted portion of NAESB Standard 5.3.45.

Southern Trails states that a copy of this filing has been served upon its customers and the Public Service Commissions of Utah, New Mexico, Arizona, and California.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 4, 2003.

Magalie R. Salas,
Secretary.

[FR Doc. 03-14240 Filed 6-5-03; 8:45 am]

BILLING CODE 6717-01-P